DEPARTMENT OF THE INTERIOR

Bureau of Land Management

[LLWO35000.L14300000.FR0000.24-1A; OMB Control Number 1004-0012]

Notice of Information Collection; Application for Land for Recreation or Public Purposes

AGENCY: Bureau of Land Management, Interior.

ACTION: 30-day notice and request for comments.

SUMMARY: The Bureau of Land Management (BLM) has submitted an information collection request to the Office of Management and Budget (OMB) for a 3-year extension of OMB Control Number 1004-0012 under the Paperwork Reduction Act. The respondents are State, Territory, county, and local governments; nonprofit corporations; and nonprofit associations which provide information to the BLM in support of applications for land under the Recreation and Public Purposes Act.

DATES: The OMB is required to respond to this information collection request within 60 days but may respond after 30 days. Therefore, written comments should be received on or before November 27, 2009.

ADDRESSES: You may submit comments directly to the Desk Officer for the Department of the Interior (OMB #1004-0012), Office of Management and Budget, Office of Information and Regulatory Affairs, fax 202-395-5806, or by electronic mail at oira_docket@omb.eop.gov. Please mail a copy of your comments to: Bureau Information Collection Clearance Officer (WO-630), Department of the Interior, 1849 C Street, NW., Mail Stop 401 LS, Washington, DC 20240.

You may also send a copy of your comments by electronic mail to jean_sonneman@blm.gov.

FOR FURTHER INFORMATION CONTACT: Alzata L. Ransom, Lands and Realty Group, at (202) 912-7341. Persons who use a telecommunication device for the deaf (TDD) may call the Federal Information Relay Service (FIRS) on 1-800-877-8330, 24 hours a day, seven days a week, to contact Ms. Ransom.

SUPPLEMENTARY INFORMATION: Title: Application for Land for Recreation or Public Purposes (43 CFR 2470 and 2912).

OMB Number: 1004-0012.

Abstract: The Bureau of Land Management proposes to extend the currently approved collection of information, which enables the agency to determine whether or not applicants are qualified to lease or purchase lands for recreation or public purposes.

60-Day Notice: On May 19, 2009, the BLM published a 60-day notice (74 FR 23427) requesting comments on the proposed information collection. The comment period ended on July 20, 2009. No comments were received.

Current Action: This proposal is being submitted to extend the expiration date of November 30, 2009.

Type of Review: 3-year extension.

Affected Public: State, Territory, county, and local governments; nonprofit corporations; and nonprofit associations.

Obligation to Respond: Required to obtain or retain benefits.

Annual Responses: 23.

Annual Burden Hours: 920.

A filing fee of $100 is associated with each of these information collections. The BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB control number 1004-0012 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. E9-25981 Filed 10-27-09; 8:45 am]

BILLING CODE 4310-84-P